DEPARTMENT OF DEFENSE

GENERAL SERVICES ADMINISTRATION

NATIONAL AERONAUTICS AND SPACE ADMINISTRATION

48 CFR Part 10

[FAR Case 2017-011; Docket No. FAR-2017-0011, Sequence No. 1]

RIN 9000-AN46

Federal Acquisition Regulation: Section 508-Based Standards in Information and Communication Technology; Correction.

AGENCY: Department of Defense (DoD), General Services Administration (GSA), and National Aeronautics and Space Administration (NASA).

ACTION: Proposed rule; correction.

SUMMARY: On March 31, 2020, DoD, GSA, and NASA published a rule proposing to amend the Federal Acquisition Regulation (FAR) to incorporate recent revisions and updates to accessibility standards issued by the U.S. Access Board pursuant to section 508 of the Rehabilitation Act of 1973. DoD, GSA, and NASA are making editorial changes to correct amendatory instructions.

DATES: Comments for the proposed rule published March 31, 2020, at 85 FR 17831, continue to be accepted on or before June 1, 2020, to be considered in the formation of a final rule.

ADDRESSES: Submit comments identified by FAR case 2017-011 by any of the following methods:

• Regulations.gov: http://www.regulations.gov.

Submit comments via the Federal eRulemaking portal by searching for “FAR Case 2017-011”. Select the link “Comment Now” that corresponds with “FAR Case 2017-011.” Follow the instructions provided on the screen. Please include your name, company name (if any), and “FAR Case 2017-011” on your attached document.

• Mail: General Services Administration, Regulatory Secretariat Division (MVCB), ATTN: Lois Mandell, 1800 F Street, NW, 2nd floor, Washington, DC 20405.

Instructions: Please submit comments only and cite “FAR case 2017-011(proposed rule)” in all correspondence related to this case. All comments received will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Camara Francis, Procurement Analyst, at 202-550-0935 for clarification of content. For information pertaining to status or publication schedules, contact the Regulatory Secretariat Division at 202-501-4755. Please cite FAR Case 2017-011.

SUPPLEMENTARY INFORMATION:

Correction

In the rule, FR Doc. 2020-05867 published in the Federal Register at 85 FR 17831, March 31, 2020, make the following correction:

On page 17832, third column, line 31, remove “(https://www.access-board.gov/guidelines-andstandards/communications-and-it/about-the-ict-refresh/final-regulatoryimpact-analysis)” and add “https://www.regulations.gov/docket?D=ATBCB-2015-0002” in its place.

10.001 [Corrected]

On page 17834, in the first column, PART 10—MARKET RESEARCH, revise amendatory instruction number 5 to read as follows:

PART 10—MARKET RESEARCH

5. Amend section 10.001 by revising paragraph (a)(3)(ix) to read as follows:

10.001 Policy.

(a) * * *

(3) * * *

(ix) Assess the availability of supplies or services that meet all or part of the applicable information and communication technology accessibility standards at 36 CFR 1194.1 (see subpart 39.2).

* * * * *

William F. Clark,
Director,Office of Government-wide Acquisition Policy, Office of Acquisition Policy, Office of Government-wide Policy.

[FR Doc. 2020-07737 Filed 4-15-20; 8:45 am]

BILLING CODE 6820-EP-P